DEPARTMENT OF ENERGY

Federal Energy Regulatory Commission

[Docket No. EG01-133-000]

Whiting Clean Energy, Inc., Notice of Application for Commission Determination of Exempt Wholesale Generator Status

February 26, 2001.

Take notice that on February 22, 2001, Whiting Clean Energy, Inc. (WCE), 8407 Virginia Street, Merrillville, Indiana 46410, filed with the Federal Energy Regulatory Commission (Commission) an Application for Determination of Exempt Wholesale Generator Status pursuant to Part 365 of the Commission's Regulations and Section 32 of the Public Utility Holding Company Act, as amended (the Application).

The Application seeks a determination that WCE qualifies for Exempt Wholesale Generator status. WCE is an Indiana Corporation that will own and operate a gas-fired combined cycle cogeneration facility rated at approximately 525 MW capacity. Upon WCE's determination as an EWG, the facility will be used for the generation of electricity exclusively for sale at wholesale.

Copies of this application have been served upon the Indiana Utility Regulatory Commission and the Securities and Exchange Commission.

Any person desiring to be heard concerning the application for exempt wholesale generator status should file a motion to intervene or comments with the Federal Energy Regulatory Commission, 888 First Street, NE., Washington, DC 20426, in accordance with Rules 211 and 214 of the Commission's Rules of Practice and Procedure (18 CFR 385.211 and 385.214). The Commission will limit its consideration of comments to those that concern the adequacy or accuracy of the application. All such motions and comments should be filed on or before March 19, 2001, and must be served on the applicant. Any person wishing to become a party must file a motion to intervene. Copies of this filing are on file with the Commission and are available for public inspection or on the Internet at http://www.ferc.fed.us/online/rims.htm (please call (202) 208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-5102 Filed 3-1-01; 8:45 am]

BILLING CODE 6777-01-M